DEPARTMENT OF ENERGY

Federal Energy Regulatory Commission

[Docket No. CP00-366-000]

Northwest Pipeline Corporation; Notice of Application

May 25, 2000.

Take notice that on May 16, 2000, Northwest Pipeline Corporation (Northwest or Applicant), 295 Chipeta Way, Salt Lake City, Utah 84108, filed an application pursuant to and in accordance with Section 7(c) of the Natural Gas Act (NGA) and Part 157 of the Commission's regulations, requesting a certificate of public convenience and necessity authorizing the construction and operation of approximately 260 feet of 30-inch mainline loop adjacent to the Washougal Compressor Station (C.S.) in Clark County, Washington, all as more fully set forth in the application which is on file with the Commission and open to the public inspection. The application may be viewed on the web at http://www.ferc.us/online/rims.htm (call 202-208-2222 for assistance).

The proposed pipeline looping will complete Northwest's 30-inch mainline loop between the Washougal C.S. and the Chehalis C.S. Northwest proposes to install the 260 feet of 30-inch pipeline loop and appurtenances (including a pig receiver and drip, a 2-inch dripline from the pig receiver, and an access road to the pig receiver) on existing permanent right-of-way. The proposed facilities will extend northwest from the outlet of the existing Washougal C.S. to connect with Northwest's existing 30-inch mainline loop. According to Northwest, the completion of this final section of loop will not increase the design capacity of its mainline. However, Northwest contends that the 30-inch mainline loop will enhance the reliability of service to its shippers and will allow more flexible and efficient operation of the Washougal C.S.

Northwest estimates that the cost of the proposed facilities will be approximately $938,000, of which approximately $543,000 for the 30-inch loop extension, and approximately $395,000 for the associated auxiliary facilities. Northwest requests expedited Commission approval by August 1, 2000, so that the project can be completed prior to the rainy season in the Pacific Northwest. Northwest states that since the proposed project is designed to maintain reliability and improve efficiency and flexibility, application of the FERC's Policy Statement issued September 15, 1999 in Docket No. PL99-3-000 dictates that all project costs should be permitted rolled-in treatment in Northwest's next rate case.

Any questions regarding this application should be directed to Gary Kotter, Certificates Manager for Northwest, P.O. Box 58900, Salt Lake City, Utah 84158-0900 at (801) 584-7117, or Richard N. Stapler, Jr., Senior Attorney, P.O. Box 58900, Salt Lake City, Utah 84158-0900 at (801) 584-7068.

Any person desiring to be heard or to make protest with reference to said application should on or before June 15, 2000, file with the Federal Energy Regulatory Commission, 888 First Street, NE, Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

A person obtaining intervenor status will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Northwest to appear or be represented at the hearing.

Linwood A. Watson, Jr.,
Acting Secretary.

[FR Doc. 00-13619 Filed 5-31-00; 8:45 am]

BILLING CODE 6717-01-M